INTERNATIONAL TRADE COMMISSION

[Investigation Nos. 701-TA-687 and 731-TA-1614 (Final)]

Brass Rod From Israel; Scheduling of the Final Phase of the Antidumping and Countervailing Duty Investigations

AGENCY: United States International Trade Commission.

ACTION: Notice.

DATES: August 5, 2024.

FOR FURTHER INFORMATION CONTACT: Julie Duffy (202) 708-2579), Office of Investigations, U.S. International Trade Commission, 500 E Street SW, Washington, DC 20436. Hearing-impaired persons can obtain information on this matter by contacting the Commission's TDD terminal on (202) 205-1810. Persons with mobility impairments who will need special assistance in gaining access to the Commission should contact the Office of the Secretary at (202) 205-2000. General information concerning the Commission may also be obtained by accessing its internet server (https://www.usitc.gov). The public record for these investigations may be viewed on the Commission's electronic docket (EDIS) at https://edis.usitc.gov.

SUPPLEMENTARY INFORMATION: Effective September 29, 2023, the Commission established a general schedule for the conduct of the final phase of its investigations on brass rod from Brazil, India, Israel, Mexico, South Africa, and South Korea ¹ following preliminary determinations by the U.S. Department of Commerce (“Commerce”) that imports of brass rod from India, Israel, and South Korea were being subsidized by the governments of India, Israel, and South Korea.² Notice of the scheduling of the final phase of the Commission's investigations and of a public hearing to be held in connection therewith was given by posting copies of the notice in the Office of the Secretary, U.S. International Trade Commission, Washington, DC, and by publishing the notice in the Federal Register on October 5, 2023 (88 FR 69229). All persons who requested the opportunity were permitted to appear in person or by counsel.

¹ 88 FR 69229, October 5, 2023.

² 88 FR 67239, 88 FR 67240, and 88 FR 867233, September 29, 2023.

The Commission subsequently issued its final determination that an industry in the United States is materially injured by reason of imports of brass rod from India that have been found by Commerce to be subsidized by the government of India.³ On April 22, 2024, Commerce issued its final affirmative determinations that imports of brass rod from Brazil, India, Mexico, South Africa, and South Korea were being sold at less than fair value in the United States, and that imports of brass rod from South Korea were being subsidized by the government of South Korea.⁴ The Commission subsequently issued its final determinations that an industry in the United States is materially injured by reason of imports of brass rod from Brazil, India, Mexico, South Africa, and South Korea that have been found by Commerce to be sold in the United States at less than fair value and imports of the subject merchandise from South Korea that have been found by Commerce to be subsidized by the government of South Korea.⁵

³ 89 FR 8440, February 7, 2024.

⁴ 89 FR 29303, 89 FR 29300, 89 FR 29305, 89 FR 29292, 89 FR 29298, and 89 FR 29290, April 22, 2024.

⁵ 89 FR 49193, June 11, 2024.

On August 5, 2024, Commerce issued its final affirmative determinations that imports of brass rod from Israel were being sold at less than fair value in the United States, and that imports of brass rod from Israel were being subsidized by the government of Israel.⁶ Accordingly, the Commission currently is issuing a supplemental schedule for its antidumping duty and countervailing duty investigations on imports of brass rod from Israel.

⁶ 89 FR 63402 and 89 FR 63410, August 5, 2024.

This supplemental schedule is as follows: the deadline for filing supplemental party comments on Commerce's final antidumping and countervailing duty determinations is 5:15 p.m. on August 14, 2024. Supplemental party comments may address only Commerce's final antidumping duty and countervailing duty determinations regarding imports of brass rod from Israel. These supplemental final comments may not contain new factual information and may not exceed five (5) pages in length. The supplemental staff report in the final phase of these investigations regarding subject imports from Israel will be placed in the nonpublic record on August 29, 2024; and a public version will be issued thereafter.

For further information concerning these investigations see the Commission's notice cited above and the Commission's Rules of Practice and Procedure, part 201, subparts A and B (19 CFR part 201), and part 207, subparts A and C (19 CFR part 207).

All written submissions must conform with the provisions of § 201.8 of the Commission's rules; any submissions that contain BPI must also conform with the requirements of §§ 201.6, 207.3, and 207.7 of the Commission's rules. The Commission's Handbook on Filing Procedures, available on the Commission's website at https://www.usitc.gov/documents/handbook_on_filing_procedures.pdf, elaborates upon the Commission's procedures with respect to filings.

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigation must be served on all other parties to the investigation (as identified by either the public or BPI service list), and a certificate of service must be timely filed. The Secretary will not accept a document for filing without a certificate of service.

Authority: This proceeding is being conducted under authority of title VII of the Tariff Act of 1930; this notice is published pursuant to section 207.21 of the Commission's rules.

By order of the Commission.
Issued: August 13, 2024.
Lisa Barton,
Secretary to the Commission.

[FR Doc. 2024-18404 Filed 8-15-24; 8:45 am]

BILLING CODE 7020-02-P